DEPARTMENT OF HEALTH AND HUMAN SERVICES

Centers for Disease Control and Prevention

Disease, Disability, and Injury Prevention and Control Special Emphasis Panel: HIV/AIDS Risk Reduction Intervention for Heterosexually Active African American Men, Funding Opportunity Announcement (FOA) Number PS07-002

In accordance with section 10(a)(2) of the Federal Advisory Committee Act (Pub. L. 92-463), the Centers for Disease Control and Prevention (CDC) announces a meeting of the aforementioned Special Emphasis Panel.

Time and Date: 12 p.m.-4 p.m., May 24, 2007 (Closed).

Place: Teleconference. Corporate Square, Building 12, Conference Room 3106.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of research applications received in response to FOA PS07-002, “HIV/AIDS Risk Reduction Intervention for Heterosexually Active African American Men.”

Contact Person for More Information: J. Felix Rogers, PhD, M.P.H., Scientific Review Administrator, Centers for Disease Control and Prevention, 1600 Clifton Road, NE., MS E05, Atlanta, GA 30333, telephone 404.639.6101.

The Director, Management Analysis and Services Office, has been delegated the authority to sign Federal Register notices pertaining to announcements of meetings and other committee management activities, for both CDC and the Agency for Toxic Substances and Disease Registry.

Dated: April 27, 2007.
Elaine L. Baker,
Acting Director, Management Analysis and Services Office, Centers for Disease Control and Prevention.

[FR Doc. E7-8457 Filed 5-2-07; 8:45 am]

BILLING CODE 4163-18-P